NUCLEAR REGULATORY COMMISSION

10 CFR Part 72

[NRC-2011-0007]

RIN 3150-AI90

List of Approved Spent Fuel Storage Casks: HI-STORM Flood/Wind Addition

AGENCY: Nuclear Regulatory Commission.

ACTION: Direct final rule; confirmation of effective date.

SUMMARY: The U.S. Nuclear Regulatory Commission (NRC) is confirming the effective date of June 13, 2011, for the direct final rule that was published in the Federal Register on March 28, 2011 (76 FR 17019). This direct final rule amended the NRC's spent fuel storage regulations to add the Holtec HI-STORM Flood/Wind cask system to the “List of Approved Spent Fuel Storage Casks” as Certificate of Compliance Number 1032.

DATES: Effective Date: The effective date of June 13, 2011, is confirmed for this direct final rule.

ADDRESSES: Documents related to this rulemaking, including any comments received, may be examined at the NRC Public Document Room, Room O-1F23, 11555 Rockville Pike, Rockville, MD 20852.

FOR FURTHER INFORMATION CONTACT: Gregory Trussell, Office of Federal and State Materials and Environmental Management Programs, U.S. Nuclear Regulatory Commission, Washington, DC 20555; telephone: 301-415-6445, e-mail: Gregory.Trussell@nrc.gov.

SUPPLEMENTARY INFORMATION: On March 28, 2011 (76 FR 17019), the NRC published a direct final rule amending its regulations at Title 10 of the Code of Federal Regulations Section 72.214 to add the Holtec HI-STORM Flood/Wind cask system to the “List of Approved Spent Fuel Storage Casks” as Certificate of Compliance Number 1032. In the direct final rule, the NRC stated that if no significant adverse comments were received, the direct final rule would become final on June 13, 2011. The NRC did not receive any comments on the direct final rule. Therefore, this rule will become effective as scheduled.

Dated at Rockville, Maryland, this 3rd day of June, 2011.
For the Nuclear Regulatory Commission.
Leslie S. Terry,
Acting Chief, Rules, Announcements, and Directives Branch, Division of Administrative Services, Office of Administration.

[FR Doc. 2011-14061 Filed 6-7-11; 8:45 am]

BILLING CODE 7590-01-P